DEPARTMENT OF HOMELAND SECURITY

Office of the Under Secretary for Management; Notice of Availability of Alternative Fuel Vehicle Report for Fiscal Year 2004

AGENCY: Office of the Under Secretary for Management, Department of Homeland Security.

ACTION: Notice.

SUMMARY: The Department of Homeland Security, Office of the Under Secretary for Management, is issuing this notice in order to comply with the Energy Policy Act of 1992 and 42 U.S.C. 13218(b). The purpose of this notice is to announce the public availability of the Department of Homeland Security's Alternative Fuel Vehicle (AFV) Report for Fiscal Year 2004 at the following Web site: http://www.dhs.gov/dhspublic/interapp/editorial/editorial_0620.xml.

FOR FURTHER INFORMATION CONTACT: Questions regarding AFV reports on the Department of Homeland Security Web site should be addressed to the Department of Homeland Security, Fleet and Transportation Program Manager (Attn: Steven Sosson), Washington, DC 20528, telephone 202-692-4226.

Janet Hale,
Under Secretary for Management, Department of Homeland Security.

[FR Doc. 05-12748 Filed 6-27-05; 8:45 am]

BILLING CODE 4110-10-P